DEPARTMENT OF AGRICULTURE

Agricultural Research Service

7 CFR Part 504

RIN 0518-AA05

Changes to Fees and Payment Methods

AGENCY: Agricultural Research Service, USDA.

ACTION: Proposed rule.

SUMMARY: This document proposes an increase in the fees the Agricultural Research Service's (ARS) Patent Culture Collection charges, and a revision of the method of payment.

DATES: Submits comments on or before November 2, 2015.

ADDRESSES: See FOR FURTHER INFORMATION CONTACT section below.

FOR FURTHER INFORMATION CONTACT: Jeffrey Kurtz, ARS—Budget and Program Management Staff, George Washington Carver Center, 5601 Sunnyside Avenue, Room 4-1106, Beltsville, Maryland 20705, telephone: (301) 504-4494, email: jeff.kurtz@ars.usda.gov.

SUPPLEMENTARY INFORMATION: Microbial-based agriculture and biotechnology rely on superior production strains, new strains with novel characteristics, and reference strains for comparative purposes. Such strains are often difficult to acquire or are cost prohibitive for many researchers. ARS has a staff dedicated to the acquisition and distribution of microbial germplasm in which patented strains can be deposited in and distributed from its Patent Culture Collection for a one-time fee to cover maintenance and distribution costs.

ARS' Patent Culture Collection receives about 120 patent deposits per year, and distributes about 450 cultures per year. Nearly all of the accessions and distributions are requested by companies, universities, or Government agencies. Currently, ARS charges $500 for each microbial culture deposit, as set forth in 7 CFR 504.2(a). For each microbial culture distribution ARS charges $20, as set forth in 7 CFR 504.2(b). The current fees, which were established in 1985, do not reflect the actual costs of providing materials and services as set forth in the regulation. ARS proposes to increase these fees to reflect their actual costs of $670 and $40, respectively, and to apply the distribution fee to all patent deposits regardless of the date of the deposit. This will not include back billing for deposits.

ARS also requests to add pay.gov as a method of paying deposit and distributions fees. Currently, payment to the Department of Agriculture can only be made by check, draft, or money order (7 CFR 504.3(b)).

The proposed increased fees will enable ARS' Patent Culture Collection to continue its mission of supporting microbiological research and biotechnological innovation, and serve as a repository where patented microbial strains can be deposited and distributed to the scientific community.

The proposed new fee structure and method of receiving payments will require 7 CFR 504.2(a) and (b) and 504.3(b) to be amended.

Dated: August 11, 2015.
Simon Y. Liu,
Associate Administrator, ARS.

[FR Doc. 2015-20844 Filed 9-1-15; 8:45 am]

BILLING CODE 3410-03-P